DEPARTMENT OF COMMERCE

National Oceanic and Atmospheric Administration

RIN 0648-XE549

Pacific Fishery Management Council; Public Meeting

AGENCY: National Marine Fisheries Service (NMFS), National Oceanic and Atmospheric Administration (NOAA), Commerce.

ACTION: Notice of a public meeting.

SUMMARY: The Pacific Fishery Management Council (Pacific Council) and the NOAA's Southwest Fisheries Science Center (SWFSC) will convene a workshop to develop methods for conducting stock assessments of short-lived coastal pelagic species (CPS) on the U.S. West Coast. The meeting is open to the public.

DATES: The meeting will be held Monday, May 2, 2016 through Thursday, May 5, 2016. The meeting will begin at 10 a.m. the first day, and at 8 a.m. each subsequent day, Pacific Standard Time. The meeting will conclude at 5 p.m. each day, or when business for the day has been completed.

ADDRESSES: The meeting will be held at the Southwest Fisheries Science Center Pacific Room, 8901 La Jolla Shores Drive, La Jolla, CA 92037.

Council address: Pacific Fishery Management Council, 7700 NE. Ambassador Place, Suite 101, Portland, OR 97220; telephone: (503) 820-2280.

FOR FURTHER INFORMATION CONTACT: Kerry Griffin, Staff Officer; telephone: (503) 820-2409.

SUPPLEMENTARY INFORMATION: The primary purpose of the workshop is to develop methods for conducting stock assessments of short-lived CPS on the U.S. West Coast, with an emphasis on the central subpopulation of northern anchovy. The workshop will include a discussion of how stock assessments and/or single point biomass estimates can be used in management. The intent is to provide recommendations to the SWFSC for use in conducting CPS stock assessments, especially for data-limited stocks.

Special Accommodations

Note: All foreign nationals must complete the Foreign National Registration form at https://docs.google.com/a/noaa.gov/forms/d/13wQaOZ_YcMV21b7aLYnh-WWkmpNYrYJhmDiJDIbnNOA/viewform?c=0&w=1 no later than two weeks prior to the meeting. Forms are also available by contacting Mr. Dale Sweetnam (dale.sweetnam@noaa.gov). Foreign nationals will not be allowed on the premises unless they have been cleared prior to arrival.

Requests for sign language interpretation or other auxiliary aids should be directed to Mr. Dale Sweetnam (858) 546-7170 at least 5 days prior to the meeting date.

Dated: April 5, 2016.
Tracey L. Thompson,
Acting Deputy Director, Office of Sustainable Fisheries, National Marine Fisheries Service.

[FR Doc. 2016-08128 Filed 4-7-16; 8:45 am]

BILLING CODE 3510-22-P